DEPARTMENT OF ENERGY

Federal Energy Regulatory Commission

[Project No. 2197-042, North Carolina]

Alcoa Power Generating Inc.; Notice of Availability of Environmental Assessment

March 13, 2001.

An environmental assessment (EA) is available for public review. The EA analyzes the environmental impacts of an application by Alcoa Power Generating Inc. (Alcoa) to grant a permit to KEJ Marketing Co., Inc. for the construction of four boat docks with a total of 48 boat slips and one boat ramp on Narrows reservoir, part of the Yadkin Hydroelectric Project. Alcoa proposes to grant a second permit to Heron Bay Homeowners Association for the use and operation of the above facilities. Alcoa is the licensee for the Yadkin Project which is on the Yadkin/Pee Dee River in Montgomery, Stanly, Davidson, Rowan, and Davie Counties, North Carolina. The Yadkin Project contains the following reservoirs: High Rock, Tuckertown, Narrows (Badin), and Falls. The project does not occupy any federal lands.

The EA was written by staff in the Office of Energy Projects, Federal Energy Regulatory Commission. Commission staff believe approving Alcoa's application would not constitute a major federal action significantly affecting the quality of the human environment. Copies of the EA can be viewed on the web at www.fer.fed.us/online/rims.htm. Call (202) 208-2222 for assistance. Copies are also available for inspection and reproduction at the Commission's Public Reference Room, located at 888 First Street, NE., Room 2A, Washington DC 20426, or by calling (202) 208-1371.

David P. Boergers,
Secretary.

[FR Doc. 01-6658 Filed 3-16-01; 8:45 am]

BILLING CODE 6717-01-M